DEPARTMENT OF VETERANS AFFAIRS

Revised VA Tribal Consultation Policy and Directive 8603

AGENCY: Department of Veterans Affairs.

ACTION: Notice.

SUMMARY: The Department of Veterans Affairs (VA) Office of Public and Intergovernmental Affairs (OPIA), Office of Tribal Government Relations (OTGR), has updated their policy and directive on VA Tribal Consultation, in accordance with Executive Order 13175 and Presidential Memorandum January 2021. We request that tribal leaders or their designees review the final directive/policy and provide any additional feedback.

DATES: Comments must be received on or before April 22, 2024.

ADDRESSES: Comments must be submitted through www.regulations.gov. Except as provided below, comments received before the close of the comment period will be available at www.regulations.gov for public viewing, inspection, or copying, including any personally identifiable or confidential business information that is included in a comment. We post the comments received before the close of the comment period on www.regulations.gov as soon as possible after they have been received. VA will not post on Regulations.gov public comments that make threats to individuals or institutions or suggest that the commenter will take actions to harm the individual. VA encourages individuals not to submit duplicative comments; however, we will post comments from multiple unique commenters even if the content is identical or nearly identical to other comments.

FOR FURTHER INFORMATION CONTACT: Veronica Duncan, Tribal Relations Specialist, 202-461-7431, 810 Vermont Avenue NW, Washington, DC 20420. (This is not a toll-free number.)

SUPPLEMENTARY INFORMATION: VA has gathered tribal input on the policy through a March 2021 Dear Tribal Leader Letter requesting written comments, a series of six tribal consultation meetings held in April 2021, and a review of the policy by VA's Advisory Committee on Tribal and Indian Affairs. VA has reviewed all input received through this engagement and proposes several edits to the Tribal Consultation Policy in response to the tribal recommendations deemed feasible to implement. VA Directive 8603 on Consultation and Communication with Federally Recognized Indian Tribes can be found at: www.va.gov/vapubs/search_action.cfm?dType=1.

Signing Authority

Denis McDonough, Secretary of Veterans Affairs, approved and signed this document on March 18, 2024, and authorized the undersigned to sign and submit the document to the Office of the Federal Register for publication electronically as an official document of the Department of Veterans Affairs.

Jeffrey M. Martin,
Assistant Director, Office of Regulation Policy & Management, Office of General Counsel, Department of Veterans Affairs.

[FR Doc. 2024-06055 Filed 3-21-24; 8:45 am]

BILLING CODE 8320-01-P